DEPARTMENT OF TRANSPORTATION

Federal Aviation Administration

14 CFR Part 95

[Docket No. 30868; Amdt. No. 503]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective: 0901 UTC, November 15, 2012.

FOR FURTHER INFORMATION CONTACT: Rick Dunham, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on October 12, 2012.
John M. Allen,
Deputy Director, Flight Standards Service.

Adoption of the Amendment

Accordingly, pursuant to the authority delegated to me by the Administrator, part 95 of the Federal Aviation Regulations (14 CFR part 95) is amended as follows effective at 0901 UTC, July 26, 2012.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 503 Effective Date November 15, 2012]
From | To | MEA | MAA
§ 95.4000 HIGH ALTITUDE RNAV ROUTES
§ 95.4062 RNAV ROUTE Q62 Is Amended by Adding
WATSN, IN FIX | DAIFE, IN FIX | 18000 | 45000
DAIFE, IN FIX | NOLNN, OH FIX | 18000 | 45000

From | To | MEA
§ 95.6001 VICTOR ROUTES—U.S.
§ 95.6001 VOR FEDERAL AIRWAY V1 Is Amended to Read in Part
CHARLESTON, SC VORTAC | KIMMY, SC FIX | 2000
KIMMY, SC FIX | GRAND STRAND, SC VORTAC | 2100
§ 95.6008 VOR FEDERAL AIRWAY V8 Is Amended to Read in Part
GRAND JUNCTION, CO VOR/DME | *SQUAT, CO FIX | **10500
*12000—MCA SQUAT, CO FIX, NE BND
**9600—MOCA
§ 95.6021 VOR FEDERAL AIRWAY V21 Is Amended To Read in Part
DILLON, MT VOR/DME | *WHITEHALL, MT VOR/DME | 10000
*9300—MCA WHITEHALL, MT VOR/DME, N BND
§ 95.6030 VOR FEDERAL AIRWAY V30 Is Amended To Read in Part
EAST TEXAS, PA VOR/DME | SOLBERG, NJ VOR/DME | 2700
§ 95.6034 VOR FEDERAL AIRWAY V34 Is Amended To Read in Part
HANCOCK, NY VOR/DME | RIMBA, NY FIX | 6000
RIMBA, NY FIX | WEETS, NY FIX | 6400
WEETS, NY FIX | PAWLING, NY VOR/DME
| W BND | 6000
| E BND | 4000
§ 95.6035 VOR FEDERAL AIRWAY V35 Is Amended To Read in Part
ELMIRA, NY VOR/DME | SCIPO, NY FIX | 3700
§ 95.6045 VOR FEDERAL AIRWAY V45 Is Amended To Read in Part
RALEIGH/DURHAM, NC VORTAC | *CHAPL, NC FIX | **2400
*2800—MCA CHAPL, NC FIX, W BND
**1900—MOCA
CHAPL, NC FIX | GREENSBORO, NC VORTAC | 3100
§ 95.6052 VOR FEDERAL AIRWAY V52 Is Amended To Read in Part
DES MOINES, IA VORTAC | BUSSY, IA FIX | #*4500
*2400—MOCA
*2700—GNSS MEA
#DES MOINES R-105 UNUSABLE, USE OTTUMWA R-287
BUSSY, IA FIX | OTTUMWA, IA VOR/DME | 2700
§ 95.6066 VOR FEDERAL AIRWAY V66 Is Amended To Read in Part
MISSION BAY, CA VORTAC | *RYAHH, CA FIX
*6400—MCA RYAHH, CA FIX, E BND | E BND | 7000
| W BND | 4000
RYAHH, CA FIX | BARET, CA FIX
*6100—MOCA | E BND | *8400
| W BND | *7000
BARET, CA FIX | *KUMBA, CA FIX | 8400
*6700—MCA KUMBA, CA FIX, W BND
KUMBA, CA FIX | IMPERIAL, CA VORTAC | 4300
§ 95.6095 VOR FEDERAL AIRWAY V95 Is Amended To Read in Part
BLUE MESA, CO VOR/DME | ROMLY, CO FIX
| E BND | 17000
| W BND | 12000
ROMLY, CO FIX | *HOHUM, CO FIX | **17000
*13100—MCA HOHUM, CO FIX, S BND
**16200—MOCA
§ 95.6106 VOR FEDERAL AIRWAY V106 Is Amended To Read in Part
WEETS, NY FIX | PAWLING, NY VOR/DME
| W BND | 6000
| E BND | 4000
§ 95.6133 VOR FEDERAL AIRWAY V133 Is Amended To Read in Part
TRAVERSE CITY, MI VORTAC | ESCANABA, MI VOR/DME | 5000
§ 95.6139 VOR FEDERAL AIRWAY V139 Is Amended To Read in Part
NEW BERN, NC VOR/DME | PEARS, NC FIX
*2000—GNSS MEA | S BND | *2000
| N BND | *6000
PEARS, NC FIX | SUNNS, NC FIX | *6000
*2100—MOCA
*2100—GNSS MEA
SUNNS, NC FIX | NORFOLK, VA VORTAC
*1600—MOCA | NE BND | *2500
| SW BND | *4800
*2000—GNSS MEA
§ 95.6175 VOR FEDERAL AIRWAY V175 Is Amended To Read In Part
KIRKSVILLE, MO VORTAC | OHGEE, IA FIX | 2800
OHGEE, IA FIX | DES MOINES, IA VORTAC | #*7000
*2500—MOCA
#DES MOINES R-141 UNUSABLE, USE KIRKSVILLE R-323
§ 95.6193 VOR FEDERAL AIRWAY V193 Is Amended To Read in Part
WHITE CLOUD, MI VOR/DME | TRAVERSE CITY, MI VORTAC | 4000
§ 95.6249 VOR FEDERAL AIRWAY V249 Is Amended To Read in Part
WEETS, NY FIX | RIMBA, NY FIX | 6400
§ 95.6263 VOR FEDERAL AIRWAY V263 Is Amended To Read in Part
HUGO, CO VOR/DME | *LIMEX, CO FIX | **10000
*10000—MRA
**8500—MOCA
**9000—GNSS MEA
*LIMEX, CO FIX | AKRON, CO VOR/DME | **8500
*10000—MRA
**7200—MOCA
§ 95.6267 VOR FEDERAL AIRWAY V267 Is Amended To Read in Part
BAIRN, FL FIX | ORLANDO, FL VORTAC | 2600
§ 95.6285 VOR FEDERAL AIRWAY V285 Is Amended To Read in Part
MANISTEE, MI VOR/DME | TRAVERSE CITY, MI VORTAC | 2800
§ 95.6295 VOR FEDERAL AIRWAY V295 Is Amended To Read in Part
TREASURE, FL VORTAC | BAIRN, FL FIX | *2600
*1600—MOCA
BAIRN, FL FIX | ORLANDO, FL VORTAC | 2600
§ 95.6310 VOR FEDERAL AIRWAY V310 Is Amended To Read in Part
GREENSBORO, NC VORTAC | *CHAPL, NC FIX | 3100
*2800—MCA CHAPL, NC FIX, W BND
CHAPL, NC FIX | RALEIGH/DURHAM, NC VORTAC | *2400
*1900—MOCA
§ 95.6320 VOR FEDERAL AIRWAY V320 Is Amended To Read in Part
TRAVERSE CITY, MI VORTAC | MOUNT PLEASANT, MI VOR/DME | 5000
§ 95.6392 VOR FEDERAL AIRWAY V392 Is Amended To Read in Part
SACRAMENTO, CA VORTAC | ROZZY, CA FIX | *3500
*2200—MOCA
§ 95.6405 VOR FEDERAL AIRWAY V405 Is Amended To Read In Part
LANNA, NJ FIX | SOLBERG, NJ VOR/DME | 2700
§ 95.6420 VOR FEDERAL AIRWAY V420 Is Amended To Read in Part
GREEN BAY, WI VORTAC | TRAVERSE CITY, MI VORTAC | 3500
§ 95.6458 VOR FEDERAL AIRWAY V458 Is Amended To Read in Part
JULIAN, CA VORTAC | *KUMBA, CA FIX | 7900
*5600—MCA KUMBA, CA FIX, NW BND
KUMBA, CA FIX | IMPERIAL, CA VORTAC | 4300
§ 95.6460 VOR FEDERAL AIRWAY V460 Is Amended To Read in Part
MISSION BAY, CA VORTAC | *RYAHH, CA FIX
*6400—MCA RYAHH, CA FIX, E BND | E BND | 7000
| W BND | 4000
RYAHH, CA FIX
BARET, CA FIX | W BND | 4000
*6100—MOCA | E BND | *8400
| W BND | *7000
BARET, CA FIX | CANNO, CA FIX | 8400
CANNO, CA FIX | JULIAN, CA VORTAC | 8800
§ 95.6483 VOR FEDERAL AIRWAY V483 Is Amended To Read in Part
KINGSTON, NY VOR/DME | WEETS, NY FIX
*3200—MOCA | NW BND | *6000
| SE BND | *4000
WEETS, NY FIX | RIMBA, NY FIX | 6400
§ 95.6494 VOR FEDERAL AIRWAY V494 Is Amended To Read in Part
SACRAMENTO, CA VORTAC | ROZZY, CA FIX | *3500
*2200—MOCA
§ 95.6514 VOR FEDERAL AIRWAY V514 Is Amended To Read in Part
MISSION BAY, CA VORTAC | *RYAHH, CA FIX
*6400—MCA RYAHH, CA FIX, E BND | E BND | 7000
| W BND | 4000
RYAHH, CA FIX | BARET, CA FIX
*6100—MOCA | E BND | *8400
| W BND | *7000
BARET, CA FIX | CANNO, CA FIX | 8400
CANNO, CA FIX | JULIAN, CA VORTAC | 8800
§ 95.6611 VOR FEDERAL AIRWAY V611 Is Amended To Read in Part
JEFEL, CO FIX | *LIMEX, CO FIX | #8500
*10000—MRA
#GNSS MEA

From | To | MEA | MAA
§ 95.7528 JET ROUTE J528 Is Amended To Delete
WHATCOM, WA VORTAC | U.S. CANADIAN BORDER | 18000 | 45000

Airway segment: From | Airway segment: To | Changeover points: Distance | Changeover points: From
§ 95.8003 VOR Federal Airway Changeover Points V1
CHARLESTON, SC VORTAC | GRAND STRAND, SC VORTAC | 46 | CHARLESTON
Is Amended To Add Changeover Point V208
SANTA CATALINA, CA VORTAC | OCEANSIDE, CA VORTAC | 31 | SANTA CATALINA
Is Amended To Add Changeover Point V27
SANTA CATALINA, CA VORTAC | OCEANSIDE, CA VORTAC | 31 | SANTA CATALINA
Is Amended To Add Changeover Point V34
ROCHESTER, NY VOR/DME | HANCOCK, NY VOR/DME | 60 | ROCHESTER
Is Amended To Add Changeover Point V458
SANTA CATALINA, CA VORTAC | OCEANSIDE, CA VORTAC | 31 | SANTA CATALINA

[FR Doc. 2012-26334 Filed 10-25-12; 8:45 am]

BILLING CODE 4910-13-P